FEDERAL ELECTION COMMISSION

11 CFR Part 9004

[Notice 2010-14]

Campaign Travel

AGENCY: Federal Election Commission.

ACTION: Announcement of effective date.

SUMMARY: On December 7, 2009, the Commission published in the Federal Register final rules implementing the provision of the Honest Leadership and Open Government Act governing campaign travel on noncommercial aircraft. This document announces the effective date of amendments made by those final rules to Commission regulations pertaining to travel by and on behalf of publicly funded presidential candidates.

DATES: Effective Date: The effective date for the revision to 11 CFR 9004.7 is July 26, 2010.

FOR FURTHER INFORMATION CONTACT: Ms. Amy L. Rothstein, Assistant General Counsel, or Mr. Joshua S. Blume or Ms. Joanna S. Waldstreicher, Attorneys, 999 E Street, NW., Washington, DC 20463, (202) 694-1650 or (800) 424-9530.

SUPPLEMENTARY INFORMATION: On December 7, 2009, the Commission published final rules governing campaign travel on noncommercial aircraft, to implement section 601 of the Honest Leadership and Open Government Act of 2007. See Final Rules on Campaign Travel, 74 FR 63951 (Dec. 7, 2009) (the “Travel Rules”); Public Law 110-81, 121 Stat. 735 (codified at 2 U.S.C. 439a(c)). The Travel Rules restrict, and in some situations prohibit, Federal candidates and certain political committees from expending campaign funds for travel on non-commercial aircraft. The Travel Rules also revised Commission regulations regarding travel by and on behalf of presidential candidates receiving public funding for the general election, 11 CFR 9004.7, promulgated pursuant to the Presidential Election Campaign Fund Act, 26 U.S.C. 9001, et seq.

Under the Administrative Procedure Act, 5 U.S.C. 553(d), and the Congressional Review of Agency Rulemaking Act, 5 U.S.C. 801(a)(1), agencies must submit final rules to the Speaker of the House of Representatives and the President of the Senate, and publish them in the Federal Register at least thirty calendar days before they take effect. In addition, any rules or regulations prescribed by the Commission to carry out the provisions of the Presidential Election Campaign Fund Act must be transmitted to the Speaker of the House of Representatives and the President of the Senate at least thirty legislative days before they are finally promulgated. 26 U.S.C. 9009(c). The thirty legislative day period that began when the Travel Rules were transmitted to Congress ended on February 1, 2010.

In the Travel Rules, the Commission stated that it would publish a separate document announcing the effective date of the amendment to 11 CFR 9004.7 at a later date. Travel Rules, 74 FR at 63951. Through this Notice, the Commission announces that the effective date of the amendment to 11 CFR 9004.7 is the date on which this document is published in the Federal Register.

Dated: July 20, 2010.
On behalf of the Commission.
Matthew S. Petersen,
Chairman, Federal Election Commission.

[FR Doc. 2010-18145 Filed 7-23-10; 8:45 am]

BILLING CODE 6715-01-P